DEPARTMENT OF ENERGY

Federal Energy Regulatory Commission

Notice of Application Ready for Environmental Analysis and Soliciting Comments, Recommendations, Terms and Conditions, and Prescriptions

January 10, 2003.

Take notice that the following hydroelectric application has been filed with the Commission and is available for public inspection.

a. Type of Application: Subsequent License for Minor Project.

b. Project No.: 719-007.

c. Date filed: October 31, 2000.

d. Applicant: Trinity Conservancy, Inc.

e. Name of Project: Trinity Power Project.

f. Location: On Phelps Creek and James Creek in the Columbia River Basin in Chelan County, near Leavenworth, Washington. The project occupies 47.9 acres of federal lands in Wenatchee National Forest.

g. Filed Pursuant to: Federal Power Act 16 U.S.C. 791 (a)-825(r).

h. Applicant Contact: Reid L. Brown, President, Trinity Conservancy, Inc., 3139 E. Lake Sammamish SE, Sammamish, WA 98075-9608, (425) 392-9214 or rlbrown@legato.com.

i. FERC Contact: Charles Hall, (202) 502-6853 or Charles.Hall@ferc.gov.us.

j. Deadline for filing comments, recommendations, terms and conditions, and prescriptions: 60 days from the issuance of this notice

All documents (original and eight copies) should be filed with: Magalie R. Salas, Secretary, Federal Energy Regulatory Commission, 888 First Street, NE., Washington, DC 20426. Documents may also be filed electronically via the Internet in lieu of paper. See 18 CFR 385.2001(a)(1)(iii) and the instructions on the Commission's Web site at http://www.ferc.gov under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. This application has been accepted, and is ready for environmental analysis at this time.

l. The Trinity Project consists of: (1) A deteriorated wooden diversion dam, 70-foot-long flume and settling tank on James Creek, and a 3,350-foot-long, partially destroyed steel penstock, all of which is proposed for decommissioning with this license application; (2) a 45-foot-long, 10-foot-high timber crib diversion dam and screened intake on Phelps Creek; (3) a 24-inch-diameter, 6,000-foot-long, gravity-flow, steel pipe aqueduct; (4) a 20-foot-long, 14-foot-wide, 9-foot-deep, reinforced concrete settling tank; (5) a 42-inch-to 12-inch-diameter, 2,750-foot-long, riveted spiral-wound penstock; (6) a 145-foot-long, 34-foot-wide, wood-frame powerhouse building containing a single Pelton impulse turbine and 240-kilowatt synchronous generator; (7) a tailrace; and (8) appurtenant facilities. The generator supplies the electricity needs of four residences, a cabin and shed; the project is not connected to the electric transmission grid. The licensee proposes to decommission the inoperable James Creek diversion facilities and adjust the project boundary accordingly.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice. Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

o. Procedural schedule and final amendments: The application will be processed according to the following Hydro Licensing Schedule. Revisions to the schedule will be made as appropriate.

Notice of the availability of the draft NEPA document, May 2003.

Notice of the availability of the final NEPA document October 2003

Ready for Commission decision on the application, February 2003.

Magalie R. Salas,
Secretary.

[FR Doc. 03-1031 Filed 1-15-03; 8:45 am]

BILLING CODE 6717-01-P